DEPARTMENT OF DEFENSE

Department of the Navy

[Docket ID: USN-2012-0019]

Privacy Act of 1974; System of Records

AGENCY: Department of the Navy, DoD.

ACTION: Notice to amend a System of Records.

SUMMARY: The Department of the Navy is amending a system of records notice in its existing inventory of record systems subject to the Privacy Act of 1974 (5 U.S.C. 552a), as amended.

DATES: This proposed action will be effective on December 17, 2012 unless comments are received which result in a contrary determination. Comments will be accepted on or before December 17, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, at (202) 685-6545.

SUPPLEMENTARY INFORMATION: The Department of the Navy systems of records notices subject to the Privacy Act of 1974, (5 U.S.C. 552a), as amended, have been published in the Federal Register and are available from the address in FOR FURTHER INFORMATION CONTACT. The proposed changes to the record systems being amended are set forth below. The proposed amendment is not within the purview of subsection (r) of the Privacy Act of 1974 (5 U.S.C. 552a), as amended, which requires the submission of a new or altered system report.

Dated: November 13, 2012.
Aaron Siegel,
Alternate OSD Federal Register Liaison Officer, Department of Defense.

NM01650-1

System name:

Department of the Navy (DON) Military Awards System (May 5, 2010, 75 FR 24667).

Changes:

* * * * *

Notification procedure:

Delete entry and replace with “Individuals seeking to determine whether information about themselves is contained in this system of records should contact their local Personnel Support Activity or Personnel Support Detachment for a search of their Navy military personnel record or go to the Navy awards Web site at Awards.navy.mil and conduct a personal awards query.

Marine Corps personnel seeking to determine whether information about themselves is contained in this system of records should contact their unit administrative officer (G-1/S-1) for a search of their Service Record Book/Officer Qualification Record or write to Headquarters U.S. Marine Corps, Manpower and Reserve Affairs Department, Personnel Management Division, Military Awards Branch (MMMA), 3280 Russell Road, MCB Quantico, Virginia 22134-5103.

All other individuals seeking to determine whether information about themselves is contained in this system of records should contact either the Chief of Naval Operations, Navy Awards Branch (DNS-35), 2000 Navy Pentagon, Washington, DC 20350-2000 (for U.S. Navy awards) or Headquarters U.S. Marine Corps, Manpower and Reserve Affairs Department, Personnel Management Division, Military Awards Branch (MMMA), MCB Quantico, Virginia 22134-5103 (for U.S. Marine Corps awards).

Written requests should include full name, SSN, time period of award, and must be signed. The system manager may require an original signature or a notarized signature as a means of proving the identity of the individual requesting access to the records.”

* * * * *

Record source categories:

Delete entry and replace with “Navy Department Awards Web Service; OPNAV Form 1650/3, Personal Award Recommendation Form, OPNAV 1650/14, Unit Award Recommendation Form, general orders; military personnel file, medical file, deck logs, command histories, award letter 1650.

Marine Corps Awards histories, Marine Corps Awards Processing System, Personal Award Recommendation (OPNAV 1650/3), Marine Corps orders, official military records, command histories, historical paper copies of personal award citations, and microfilm copies of Navy and Marine Corps 3 x 5 award cards.”

* * * * *

[FR Doc. 2012-27917 Filed 11-15-12; 8:45 am]

BILLING CODE 5001-06-P